ENVIRONMENTAL PROTECTION AGENCY

[FRL 9900-15-OGC]

Proposed Consent Decree, Clean Air Act Citizen Suit

AGENCY: Environmental Protection Agency (EPA).

ACTION: Notice of Proposed Consent Decree; Request for Public Comment.

SUMMARY: In accordance with section 113(g) of the Clean Air Act, as amended (“CAA”), notice is hereby given of a proposed consent decree, to resolve a deadline suit filed by Air Alliance Houston, California Communities Against Toxics, Coalition For A Safe Environment, Community In-Power and Development Association, Del Amo Action Committee, Environmental Integrity Project, Louisiana Bucket Brigade, and Texas Environmental Justice Advocacy Services (collectively, “Plaintiffs”) in the United States District Court for the District of Columbia: Air Alliance Houston, et al. v. McCarthy, No. 12-1607 (RMC) (D.D.C.). On September 27, 2012, Plaintiffs filed a complaint concerning EPA's obligation to develop residual risk and technology standards for the petroleum refineries source category, which is subject to two different maximum achievable control technology (MACT) standards. The consent decree would require EPA to propose action by February 14, 2014 and take final action by December 19, 2014.

DATES: Written comments on the proposed consent decree must be received by September 19, 2013.

ADDRESSES: Submit your comments, identified by Docket ID number EPA-HQ-OGC-2013-0580, online at www.regulations.gov (EPA's preferred method); by email to oei.docket@epa.gov; mailed to EPA Docket Center, Environmental Protection Agency, Mailcode: 2822T, 1200 Pennsylvania Ave. NW., Washington, DC 20460-0001; or by hand delivery or courier to EPA Docket Center, EPA West, Room 3334, 1301 Constitution Ave. NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Jan Tierney, Air and Radiation Law Office (2344A), Office of General Counsel, U.S. Environmental Protection Agency, 1200 Pennsylvania Ave. NW., Washington, DC 20460; telephone: (202) 564-5598; fax number (202) 564-5603; email address: tierney.jan@epa.gov.

SUPPLEMENTARY INFORMATION:

I. Additional Information About the Proposed Consent Decree

The proposed consent decree would resolve a lawsuit filed by the Plaintiffs seeking to compel the Administrator to take final action under section 112(d)(6), 42 U.S.C. 7412(d)(6), to “review, and revise as necessary” the national emission standards for hazardous air pollutants (“NESHAP”) and to take final action addressing residual risk under CAA section 112(f)(2), 42 U.S.C. 7412(f)(2), for petroleum refineries under 40 CFR Part 63, Subpart CC and 40 CFR Part 63, Subpart UUU, within 8 years of the promulgation of such standards. The proposed consent decree provides that no later than February 14, 2014, EPA shall (1) review and either sign a proposal to revise the emission standards in 40 CFR Part 63, Subparts CC and UUU under CAA section 112(d)(6), 42 U.S.C. 7412(d)(6), or sign a proposed determination that revision of Subparts CC and UUU is not necessary under CAA section 112(d)(6) and (2) review and either sign a proposal to promulgate residual risk standards for the Petroleum Refineries source category subject to NESHAP Subparts CC and UUU under CAA section 112(f)(2), 42 U.S.C. 7412(f)(2), or sign a proposed determination that promulgation of such standards is not required under CAA section 112(f)(2). The proposed consent decree also provides that no later than December 19, 2014, EPA shall, (1) sign a final rule promulgating revisions to the emission standards in NESHAP Subparts CC and UUU under CAA section 112(d)(6), or sign a final determination that revision of NESHAP Subparts CC and UUU is not necessary under CAA section 112(d)(6) and (2) sign a final rule promulgating residual risk standards for the Petroleum Refineries source category subject to NESHAP Subparts CC and UUU under CAA section 112(f)(2), or sign a final determination that promulgation of such standards is not required under CAA section 112(f)(2).

Within 15 business days following signature of each rule or determination or combination thereof as described in the proposed consent decree, EPA is also required to send the signed notice of each action to the Office of the Federal Register for review and publication in the Federal Register. After EPA fulfills all of its obligations under the consent decree, the proposed consent decree provides that EPA may move to have the consent decree terminated and the case dismissed.

For a period of thirty (30) days following the date of publication of this notice, the Agency will accept written comments relating to the proposed consent decree from persons who were not named as parties or intervenors to the litigation in question. EPA or the Department of Justice may withdraw or withhold consent to the proposed consent decree if the comments disclose facts or considerations that indicate that such consent is inappropriate, improper, inadequate, or inconsistent with the requirements of the Act. Unless EPA or the Department of Justice determines, based on any comment submitted, that consent to this consent decree should be withdrawn, the decree will be affirmed.

II. Additional Information About Commenting on the Proposed Consent Decree

A. How can I get a copy of the consent decree?

The official public docket for this action (identified by Docket ID No. EPA-HQ-OGC- 2013-0580) contains a copy of the proposed consent decree (including Attachment A). The official public docket is available for public viewing at the Office of Environmental Information (OEI) Docket in the EPA Docket Center, EPA West, Room 3334, 1301 Constitution Ave. NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through www.regulations.gov. You may use the www.regulations.gov to submit or view public comments, access the index listing of the contents of the official public docket, and to access those documents in the public docket that are available electronically. Once in the system, key in the appropriate docket identification number then select “search”.

It is important to note that EPA's policy is that public comments, whether submitted electronically or in paper, will be made available for public viewing online at www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to whom do I submit comments?

You may submit comments as provided in the ADDRESSES section. Please ensure that your comments are submitted within the specified comment period. Comments received after the close of the comment period will be marked “late.” EPA is not required to consider these late comments.

If you submit an electronic comment, EPA recommends that you include your name, mailing address, and an email address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the www.regulations.gov Web site to submit comments to EPA electronically is EPA's preferred method for receiving comments. The electronic public docket system is an “anonymous access” system, which means EPA will not know your identity, email address, or other contact information unless you provide it in the body of your comment. In contrast to EPA's electronic public docket, EPA's electronic mail (email) system is not an “anonymous access” system. If you send an email comment directly to the Docket without going through www.regulations.gov, your email address is automatically captured and included as part of the comment that is placed in the official public docket, and made available in EPA's electronic public docket.

Dated: August 9, 2013.
Lorie J. Schmidt,
Associate General Counsel.

[FR Doc. 2013-20027 Filed 8-19-13; 8:45 am]

BILLING CODE 6560-50-P